DEPARTMENT OF COMMERCE

International Trade Administration

[A-351-832, A-560-815, A-201-830, A-841-805, A-274-804]

Carbon and Certain Alloy Steel Wire Rod From Brazil, Indonesia, Mexico, Moldova, and Trinidad and Tobago: Final Results of the Expedited Third Sunset Reviews of the Antidumping Duty Orders

AGENCY: Enforcement and Compliance, International Trade Administration, Department of Commerce.

SUMMARY: As a result of these sunset reviews, the Department of Commerce (Commerce) finds that revocation of the antidumping duty (AD) orders on carbon and certain alloy steel wire rod from Brazil, Indonesia, Mexico, Moldova, and Trinidad and Tobago would be likely to lead to continuation or recurrence of dumping at the levels indicated in the “Final Results of Sunset Reviews” section of this notice.

DATES: Applicable October 8, 2019.

FOR FURTHER INFORMATION CONTACT: Jolanta Lawska, AD/CVD Operations, Office III, Enforcement and Compliance, International Trade Administration, U.S. Department of Commerce, 1401 Constitution Avenue NW, Washington, DC 20230; telephone: (202) 482-8362.

SUPPLEMENTARY INFORMATION:

Background

On June 4, 2019, the Department of Commerce (Commerce) published the notice of initiation of the sunset reviews of the AD orders ¹ on carbon and certain alloy steel wire rod from Brazil, Indonesia, Mexico, Moldova, and Trinidad and Tobago, pursuant to section 751(c)(2) of the Tariff Act of 1930, as amended (the Act).² We received notices of intent to participate in the reviews from the follow companies: Nucor Corporation (Nucor), Commercial Metals Company (CMC), Charter Steel, EVRAZ Rocky Mountain Steel, Liberty Steel USA, and Optimus Steel LLC (hereinafter referred to collectively as Domestic Producers).³ Commerce received complete substantive responses from the domestic interested parties within the 30-day deadline specified in 19 CFR 351.218(d)(3)(i).⁴ We received no substantive responses from any other interested parties, nor was a hearing requested. As a result, pursuant to section 751(c)(3)(B) of the Act and 19 CFR 351.218(e)(1)(ii)(C)(2), Commerce has conducted expedited (120-day) sunset reviews of the orders.⁵

¹ See Notice of Antidumping Duty Orders: Carbon and Certain Alloy Steel Wire Rod from Brazil, Indonesia, Mexico, Moldova, Trinidad and Tobago, and Ukraine, 67 FR 65945 (October 29, 2002).

² See Initiation of Five-Year (Sunset) Reviews, 84 FR 25741 (June 4, 2019) (Third Sunset Review Initiation Notice).

³ See Domestic Producers' Letter, “Carbon and Certain Alloy Steel Wire Rod from Brazil: Notice of Intent to Participate in Review,” dated June 19, 2019 (Intent to Participate for Brazil Sunset Review); see also Domestic Producers' Letters, “Carbon and Certain Alloy Steel Wire Rod from Indonesia: Notice of Intent to Participate in Review,” dated June 19, 2019 (Intent to Participate for Indonesia Sunset Review); “Carbon and Certain Alloy Steel Wire Rod from Mexico: Notice of Intent to Participate in Review,” dated June 19, 2019 (Intent to Participate for Mexico Sunset Review); “Carbon and Certain Alloy Steel Wire Rod from Moldova: Notice of Intent to Participate in Review,” dated June 19, 2019 (Intent to Participate for Moldova Sunset Review); and “Carbon and Certain Alloy Steel Wire Rod from Trinidad and Tobago: Notice of Intent to Participate in Review,” dated June 19, 2019 (Intent to Participate for Trinidad and Tobago Sunset Review).

⁴ See Domestic Producers' Letter, “Carbon and Certain Alloy Steel Wire Rod from Brazil: Substantive Response to the Notice of Initiation,” dated July 3, 2019 (Substantive Response for Brazil Sunset Review); see also Domestic Producers' Letter, “Carbon and Certain Alloy Steel Wire Rod from Indonesia: Substantive Response to the Notice of Initiation,” dated July 3, 2019 (Substantive Response for Indonesia Sunset Review); “Carbon and Certain Alloy Steel Wire Rod from Mexico: Substantive Response to the Notice of Initiation,” dated July 3, 2019 (Substantive Response for Mexico Sunset Review); “Carbon and Certain Alloy Steel Wire Rod from Moldova: Substantive Response to the Notice of Initiation,” dated July 3, 2019 (Substantive Response for Moldova Sunset Review); and “Carbon and Certain Alloy Steel Wire Rod from Trinidad and Tobago: Substantive Response to the Notice of Initiation,” dated July 3, 2019 (Substantive Response for Trinidad and Tobago Sunset Review).

⁵ See Commerce's Letter, “Sunset Reviews Initiated on June 1, 2019,” dated June 24, 2019.

Scope of the Orders

The merchandise subject to these orders is certain hot-rolled products of carbon steel and alloy steel, in coils, of approximately round cross section, 5.00 mm or more, but less than 19.00 mm, in solid cross-sectional diameter.

The products subject to these orders are currently classifiable under subheadings 7213.91.3000, 7213.91.3010, 7213.91.3011, 7213.91.3015, 7213.91.3020, 7213.91.3090, 7213.91.3091, 7213.91.3092, 7213.91.3093, 7213.91.4500, 7213.91.4510, 7213.91.4590, 7213.91.6000, 7213.91.6010, 7213.91.6090, 7213.99.0030, 7213.99.0031, 7213.99.0038, 7213.99.0090, 7227.20.0000, 7227.20.0010, 7227.20.0020, 7227.20.0030, 7227.20.0080, 7227.20.0090, 7227.20.0095, 7227.90.6010, 7227.90.6020, 7227.90.6050, 7227.90.6051 7227.90.6053, 7227.90.6058, 7227.90.6059, 7227.90.6080, and 7227.90.6085 of the HTSUS. Although the HTSUS subheadings are provided for convenience and customs purposes, the written description of the scope of this proceeding is dispositive.⁶

⁶ For a complete description of the scope of these orders, see Memorandum, “Issues and Decision Memorandum for the Expedited Third Sunset Reviews of the Antidumping Duty Orders on Carbon and Certain Alloy Steel Wire Rod from Brazil, Indonesia, Mexico, Moldova, and Trinidad and Tobago” (Issues and Decision Memorandum), dated concurrently with, and hereby adopted by, this notice.

Analysis of Comments Received

All issues raised in these reviews, including the likelihood of continuation or recurrence of dumping in the event of revocation and the magnitude of the margins likely to prevail if the orders were revoked, are addressed in the accompanying Issues and Decision Memorandum. The Issues and Decision Memorandum is a public document and is on file electronically via Enforcement and Compliance's Antidumping and Countervailing Duty Centralized Electronic Service System (ACCESS). ACCESS is available to registered users at https://access.trade.gov and to all parties in the Central Records Unit, Room B8024 of the main Commerce building. A list of the topics discussed in the Issues and Decision Memorandum is attached to this notice as an Appendix. In addition, a complete version of the Issues and Decision Memorandum can be accessed directly on the internet at http://enforcement.trade.gov/frn/. The signed and electronic versions of the Issues and Decision Memorandum are identical in content.

Final Results of Sunset Reviews

Pursuant to sections 751(c)(1) and 752(c)(1) and (3) of the Act, we determine that revocation of the AD orders on carbon and certain alloy steel wire rod from Brazil, Indonesia, Mexico, Moldova, and Trinidad and Tobago would be likely to lead to continuation or recurrence of dumping, and that the magnitude of the dumping margins likely to prevail for these countries would be weighted-average dumping margins up to 94.73, 4.05, 20.11, 369.10, and 11.40 percent, respectively.

Administrative Protective Order (APO)

This notice serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act and 19 CFR 351.218.

Dated: October 2, 2019.
P. Lee Smith,
Deputy Assistant Secretary for Policy and Negotiations Enforcement and Compliance.

Appendix

List of Topics Discussed in the Issues and Decision Memorandum

I. Summary

II. Background

III. Scope

IV. History of the Order

V. Legal Framework

VI. Discussion of the Issues

VII. Final Results of Review

VIII. Recommendation

[FR Doc. 2019-21936 Filed 10-7-19; 8:45 am]

BILLING CODE 3510-DS-P